DEPARTMENT OF DEFENSE

Office of the Secretary

Meeting of the Technology and Privacy Advisory Committee

AGENCY: Department of Defense.

ACTION: Notice of partially closed meeting.

SUMMARY: Notice is hereby given of a forthcoming partially closed meeting of the Technology and Privacy Advisory Committee (TAPAC). The purpose of the meeting is for presentation of interest and discussion concerning the legal and policy considerations, including those of privacy, implicated by the application of advanced information technologies to counter-terrorism and counter-intelligence missions. The majority of the meeting will be open to the public.

In accordance with Section 10(d) of the Federal Advisory Committee Act, Public Law 92-463, as amended (5 U.S.C., Appendix II), it is anticipated that matters affecting national security, as covered by 5 U.S.C. 552b(c)(1) (1988), will be presented during one session of the meeting, and that, accordingly, that session will be closed to the public. The Committee will also conduct a closed Executive session to discuss administrative and organizational matters.

DATES: Monday, July 21, 2 p.m. to 5 p.m. and Tuesday, July 22, 9 a.m. to 4 p.m. The meeting will be closed to discuss classified information Monday from 4-5, and to discuss organizational and administrative matters from 3-4 on Tuesday.

ADDRESSES: The Executive Conference Center, a division of Strategic Analysis, 3601 Wilson Blvd., Suite 600, Arlington, VA.

FOR FURTHER INFORMATION CONTACT: Visit the Committee's Web site at http://www.sainc.com/tapac, or contact Ms. Lisa Davis, Executive Director, Technology and Privacy Advisory Committee, The Pentagon, Room 3E1045, Washington, DC 20301-3330, telephone 703-695-0903.

Dated: June 30, 2003.
Patricia L. Toppings,
Alternate OSD Federal Register Liaison Officer, Department of Defense.

[FR Doc. 03-17132 Filed 7-7-03; 8:45 am]

BILLING CODE 5001-08-M